DEPARTMENT OF ENERGY

Federal Energy Regulatory Commission

[Docket No. CP22-25-000]

Venture Global Calcasieu Pass, LLC; Notice of Schedule for the Preparation of an Environmental Assessment for the Calcasieu Pass Uprate Amendment Project

On December 3, 2021, Venture Global Calcasieu Pass, LLC (Calcasieu Pass) filed an application in Docket No. CP22-25-000 requesting an amendment to its Section 3 of the Natural Gas Act authorization granted by the Commission on February 21, 2019 in Docket No. CP15-550-000. The proposed project is known as the Calcasieu Pass Uprate Amendment Project (Project), and it would increase the Calcasieu Pass Export Terminal's authorized peak liquefaction capacity achievable under optimal conditions from 12.0 million metric tons per annum to 12.4 million metric tons per annum of liquified natural gas (LNG)—or from approximately 620 billion cubic feet to 640.7 billion cubic feet per year (gas equivalence).

On December 15, 2021, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—June 24, 2022

90-day Federal Authorization Decision Deadline ²—September 22, 2022

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

This schedule is dependent upon the applicant providing complete responses to information requested by staff in the timeframe identified in staff's environmental information requests. If a schedule change becomes necessary, additional notice will be provided so that the relevant agencies are kept informed of the Project's progress.

Project Description

Calcasieu Pass proposes to increase the Export Terminal's authorized peak liquefaction capacity achievable under optimal conditions from 12.0 million metric tons per annum to 12.4 million metric tons per annum of LNG. According to Calcasieu Pass, this proposed increase in the peak liquefaction capacity reflects refinements in the conditions and assumptions concerning the maximum potential operations. The requested increase does not involve the construction of any new facilities nor any modification of the previously authorized facilities. There would be no land disturbance required for this Project.

Background

On March 24, 2022, the Commission issued a Notice of Scoping Period Requesting Comments on Environmental Issues for the Proposed Calcasieu Pass Uprate Amendment Project. The Notice of Scoping was sent to affected landowners; federal, state, and local government agencies; elected officials; environmental and public interest groups; Native American tribes; other interested parties; and local libraries and newspapers. Comments were filed by the U.S. Environmental Protection Agency, RESTORE, and the Deep South Center for Environmental Justice regarding light and noise pollution, air emissions, safety, environmental justice, climate change, and economic impacts. All substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP22-25-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 27, 2022.
Kimberly D. Bose,
Secretary.

[FR Doc. 2022-09447 Filed 5-2-22; 8:45 am]

BILLING CODE 6717-01-P